DEPARTMENT OF ENERGY

Federal Energy Regulatory Commission

[Project No. 2203-007; Holt Project]

Alabama Power Company; Notice of Telephone Conference

June 27, 2000.

On Thursday, July 13, 2000, the Federal Energy Regulatory Commission (Commission) staff will conduct a telephone conference with representatives of the U.S. Fish and Wildlife Service, the U.S. Army Corps of Engineers, the Alabama Department of Conservation and Natural Resources, the National Marine Fisheries Service, the Alabama Department of Environmental Management, and Alabama Power Company to discuss the Application for Non-Capacity Amendment of Project License for the Holt Project, FERC Docket No. 2203-007. The Commission staff will initiate the telephone conference. The telephone conference will begin at 2 p.m. Eastern Daylight Time (1 p.m. Central Daylight Time).

The telephone conference will be conducted according to the procedures used at Commission meetings. Meeting minutes will be taken, which will be distributed to interested parties and placed in the Commission's public files for the proceeding.

For further information, please contact Steve Kartalia at the Commission, 9202) 219-2942.

David P. Boergers,
Secretary.

[FR Doc. 00-16696 Filed 6-30-00; 8:45 am]

BILLING CODE 6717-01-M